DEPARTMENT OF HEALTH AND HUMAN SERVICES

Office of Inspector General

Program Exclusions: June 2005

AGENCY: Office of Inspector General, HHS.

ACTION: Notice of program exclusions.

During the month of June 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ALONSO, TERESA | 7/20/05
HIALEAH, FL
BOGGS, CHRISTINA | 7/20/05
NEWPORT, WA
BRACKETT, AMOUEL | 7/20/05
UNION, SC
BRIAR CREST NURSING HOME, INC | 7/20/05
GREENWICH, CT
CARDELLE, CLARA | 7/20/05
MIAMI, FL
CARNET, GUILLERMO | 7/20/05
MIAMI, FL
COMMUNITY INTEGRATION ASSOCIATES, INC | 7/20/05
CAMPBELL, NY
COOKE, JEFFERY | 7/20/05
ROCHESTER HILLS, MI
COX, KATHLEEN | 7/20/05
KINGSTON, WA
CRAVEN, ALBERTA | 7/20/05
COLUMBUS, OH
CROOKS, LYNN | 7/20/05
GOSHEN, OH
DAVIS, MARK | 7/20/05
FAIRTON, NJ
DONETS, NISON | 3/28/05
BAYSIDE, WI
EISENBERG, LESTER | 7/20/05
SOUTHOLD, NY
EKONG, AFFIONG | 7/20/05
RICHARDSON, TX
EKONG, PATRICK | 7/20/05
SEAGOVILLE, TX
FERRER, SONIA | 7/20/05
MIAMI, FL
FLOYD, LINDA | 7/20/05
KIMBOLTON, OH
FOJON, LILLIAN | 7/20/05
MIAMI, FL
GEZALYAN, SARKIS | 7/20/05
GLENDALE, CA
GOMEZ, MARIO | 7/20/05
MIAMI, FL
GOWIN, AMY | 7/20/05
NORFOLK, VA
GREENBAUM, MARK | 7/20/05
NEW ROCHELLE, NY
GRIGORYAN, KONSTANTIN | 7/20/05
ALTADENA, CA
GRIMES, LUMESHIA | 7/20/05
COLUMBIA, SC
HARTER, ANA | 7/20/05
MIAMI, FL
HERRERA, GILBERTO | 7/20/05
MIAMI, FL
HOWARD, KYLE | 7/20/05
LEBANON, OH
JACKSON, BETHEARL | 7/20/05
SAN DIEGO, CA
JAGO, ROBERT | 7/20/05
JACKSONVILLE, OH
JAGO, SHARON | 7/20/05
JACKSONVILLE, OH
JENKINS, JOHN | 7/20/05
CAMPBELL, NY
JILES, E | 7/20/05
TEXARKANA, TX
JONES, NICOLE | 7/20/05
VAUGHN, WA
JORGE, JESUS | 7/20/05
MIAMI, FL
KLANG, DAVID | 7/20/05
PALM DESERT, CA
LA CRUZ, JOSEPH | 7/20/05
HALLANDALE, FL
LARIN, LUPE | 7/20/05
ARLETA, CA
LEE, FRANCINE | 7/20/05
SACRAMENTO, CA
LLORENTE, EVA | 7/20/05
MIAMI, FL
LORENZO, OSVALDO | 7/20/05
MIAMI, FL
LOWRIGHT, MARGARET | 7/20/05
SELINSGROVE, PA
LOZANO-ARROYO, MITCHELL | 7/20/05
CABO ROJO, PR
MANVELYAN, MKRTICH | 7/20/05
N HOLLYWOOD, CA
MARRERO, EDUARDO | 7/20/05
PENSACOLA, FL
MARTIN, ANNA | 7/20/05
MONTPELIER, VT
MAYHUGH, DEBRA | 7/20/05
BREMEN, OH
MCCLELLAN, MONTY | 7/20/05
MANCHESTER, KY
MELENDEZ-COLON, JOSE | 7/20/05
SAN JUAN, PR
MESA, CARLOS | 7/20/05
MIAMI, FL
MESA, KENIA | 7/20/05
HIALEAH, FL
MIZRAHIE, REGINA | 7/20/05
LOS ANGELES, CA
MONTANO-ROY, LEAH | 7/20/05
PINELLAS PARK, FL
MORALES, ORBELINA | 7/20/05
LA MIRADA, CA
NASHIKYAN, SUSANNA | 7/20/05
LOS ANGELES, CA
NEGRIN, VIRIDIANA | 7/20/05
HIALEAH, FL
NEMIROVSKIY, IGOR | 7/20/05
MEQUON, WI
NIXON, CELESTE | 7/20/05
TACOMA, WA
OLIVEROS, EDMUND | 7/20/05
WHITE PLAINS, NY
OMER, TARIG | 7/20/05
LANHAM, MD
OSTIEMER, ROLANO | 7/20/05
MIAMI, FL
PARKER, LESTER | 7/20/05
PHOENIX, AZ
PARKS, MELISSA | 7/20/05
WYNONA, OK
PATEL, NARENDRA | 7/20/05
E ELMHURST, NY
PICKETT, KIMBERLY | 7/20/05
IDAHO FALLS, ID
PIEDRA, OSVALDO | 7/20/05
MIAMI, FL
QUEVEDO, JOSE | 7/20/05
FONTANA, CA
RAVELO, CARLOS | 7/20/05
MIAMA, FL
REGALBUTO, ALEXANDER | 7/20/05
CONGERS, NY
REGIONAL MEDICAL TRANSPORT, INC | 7/20/05
GLENWOOD, AR
REILLY, JANE | 7/20/05
MASSAPEQUA, NY
RESTREPO, JORGE | 7/20/05
MIAMI, FL
REYNOLDS, PEGGY | 7/20/05
ROCK HILL, SC
RIEDEL, DANIEL | 7/20/05
CARLSBAD, CA
RODRIGUEZ, CECILIA | 7/20/05
MIAMI LAKES, FL
ROTHBART, JANET | 7/20/05
SEMINOLE, FL
SARABI, JOAN | 7/20/05
FRANKLIN, TN
SARDARIANI, HENRIK | 7/20/05
BURBANK, CA
SCHNEIDER, MYLES | 7/20/05
SOUTH0LD, NY
SHUKH, HELEN | 7/20/05
MILWAUKEE, WI
SOTOLONGO, MIRTA | 7/20/05
MIAMI, FL
SPAID, MARK | 7/20/05
GLOVERSVILLE, NY
STARKS, EDWARD | 7/20/05
INGLEWOOD, CA
TREYNKER, ALEKSANDR | 7/20/05
CANOGA PARK, CA
UNITED MEDICAL CORPORATION | 7/20/05
COLUMBUS, OH
UPHILL MEDICAL ASSOCIATES | 9/8/04
ONTARIO L6W2X7,
WADDINGTON, CRYSTAL | 7/20/05
ABILENE, TX
YU, HENRY | 7/20/05
MAHASSET, NY
FELONY CONVICTION FOR HEALTH CARE FRAUD
ALM, ROBERT | 7/20/05
S PLYMOUTH, NY
BARBAY, MARY | 7/20/05
GROVES, TX
BEST, ALEXANDER | 7/20/05
FORT DIX, NJ
BIZZELL, CURTIS | 7/20/05
TEMPE, AZ
DALAL, NARENDRA | 7/20/05
UNION, NJ
DIAZ, ROSIE | 7/20/05
SAN JOSE, CA
FISH, TRACEY | 11/20/03
FARMINGTON, ME
GILDING, JENAH | 7/20/05
COLORADO SPRINGS, CO
HALL, MELISSA | 7/20/05
CHAMPAIGN, IL
HIGGINS, MARTIN | 7/20/05
NUTLEY, NJ
HILL, LAURIE | 09/8/04
ONTARIO L0NIK0,
HULETT, PAMELA | 7/20/05
HOUSTON, TX
LEVSKY, ANATOLY | 7/20/05
LOS ANGELES, CA
PIEDRA, ARTURO | 7/20/05
AVENAL, CA
SILVA, MELINDA | 7/20/05
MANCHESTER, NH
SIMS-MOBLEY, SHARMAINE | 7/20/05
DADE CITY, FL
STAKELY, JAMES | 7/20/05
SAN DIEGO, CA
STRUSZ, ROBERT | 7/20/05
OAKLAND, CA
THOMPSON, KARRIE | 7/20/05
MERCED, CA
VASQUEZ-RUIZ, FELIX | 7/20/05
CHICAGO, IL
WINCHESTER, RICHARD | 7/20/05
CATSKILL, NY
YUHASZ, JACKIE | 7/20/05
HUNTINGTON, WV
ZAMLOOT, PHILIP | 7/20/05
NEW YORK, NJ
FELONY CONTROL SUBSTANCE CONVICTION
ARTHUR, FRANCISCA | 7/20/05
PORT ANGELES, WA
BAUER, JOSEPH | 7/20/05
SAINT PETERSBURG, FL
BOOKER, TAMMIE | 7/20/05
DENVER, CO
CASE, BRAIN | 7/20/05
BLOOMFIELD, KY
DONOVAN, MARY | 7/20/05
WAXAHACHIE, TX
ENGLISH, PATRICIA | 7/20/05
PAINESVILLE, OH
HENSLEY, SHANE | 7/20/05
JOHNSON CITY, TN
JUDON, CHEMITA | 7/20/05
ORLANDO, FL
KEARNS, JOYCE | 7/20/05
ATOKA, OK
LADD, CAROLINE | 7/20/05
NIXA, MO
LEWIS, TAMELA | 7/20/05
SANDY HOOK, KY
MARTENS, SHAUNE | 7/20/05
NASHVILE, TN
NYMAN, DAVID | 7/20/05
TUCSON, AZ
PALMER, CINDY | 7/20/05
MURRAY, UT
POTTS, NICKI | 7/20/05
ALBUQUERQUE, NM
SANFORD, RAMONA | 7/20/05
BETHEL, AK
URTON, STEFANIE | 7/20/05
CORDOVA, AK
PATIENT ABUSE/NEGLECT CONVICTIONS
BELL, JAMES | 7/20/05
SUQUAMISH, WA
BROOKS, LATOSHA | 7/20/05
TOWSON, MD
BROWN, KESHA | 7/20/05
WATER VALLEY, MS
DAMASO, LORILEE | 7/20/05
HAUULA, HI
DAVISON, GEORGE | 7/20/05
BROOKLYN, NY
EMERICK, RANDALL | 7/20/05
STATE FARM, VA
GAMOTIN, VINCENTE | 7/20/05
LOS ANGELES, CA
GUY, SHALANDA | 7/20/05
MEMPHIS, TN
HILLCREST HEALTH CARE CENTER | 5/11/05
UNCASVILLE, CT
HOHL, DONNA | 7/20/05
VANDALIA, MO
HOPPER, CRYSTAL | 7/20/05
FOREST GROVE, OR
JACKSON, RAYSHON | 7/20/05
MILWAUKEE, WI
LAOH, BENNY | 7/20/05
SHELTON, WA
LAURIE, JASON | 7/20/05
CARSON CITY, NV
LAURIER, DIANNE | 7/20/05
SHELTON, WA
LEDESMA, VICTORIA | 7/20/05
ROSEVILLE, CA
LEE, TERRI | 7/20/05
BALTIMORE, MD
LOPEZ, BRANDICE | 7/20/05
CARMICHAEL, CA
LUNESMAN, SANDRA | 7/20/05
MONTICELLO, IA
MATTHEWS, THOMASINA | 7/20/05
PIKESVILLE, MD
MCMASTERS, LAURA | 7/20/05
TECUMSEH, OK
MILLER, GERRENE | 7/20/05
MILL HALL, PA
MORTON, JOANN | 7/20/05
ANADARKO, OK
NOOR, FARID | 7/20/05
MEDFORD, NJ
OROZCO, CONSUELO | 7/20/05
OAK VIEW, CA
PETERSON, MELISSA | 7/20/05
CHEROKEE, IA
SAJJAD, AYSHA | 7/20/05
BARTON, VT
SANNI, ELIZABETH | 7/20/05
NORTH PROVIDENCE, RI
SHACKLEFORD, GWENDOLYN | 7/20/05
DAYTON, OH
SIMPSON, LESLIE | 7/20/05
BRONX, NY
THOMAS, TRESHA | 7/20/05
VILLE PLATTE, LA
TINSLEY, ANGELA | 7/20/05
SUSANVILLE, CA
UGWU, CHARLES | 7/20/05
OKLAHOMA CITY, OK
VIELMA, LEANDRO | 7/20/05
KISSIMMEE, FL
WHEELER, AUDREY | 7/20/05
WATERFORD, ME
WHITWORTH, BEVERLY | 7/20/05
CARNEGIE, OK
CONVICTION-OBSTRUCTION OF AN INVESTIGATION
JOHNSON, LENA | 7/20/05
HOUMA, LA
LICENSE REVOCATION/SUSPENSION/SURRENDERED
ABEL, PHIL | 7/20/05
ROY, UT
AMEN, CHRISTINE | 7/20/05
MANTECA, CA
ANDERSON, JENNIE | 7/20/05
BROCKTON, MA
ANDREWS, RALEIGH | 7/20/05
MONTICELLO, KY
BAROFF, DAVID | 7/20/05
GIRARD, OH
BEAUCHAMP, MAVIS | 7/20/05
HEBRON, ND
BEISWANGER, JILL | 7/20/05
NEW ORLEANS, LA
BLAIR, DAVID | 7/20/05
AVONDALE, AZ
BLANKENSHIP, LINDA | 7/20/05
DECATUR, AL
BOSWELL, DONNA | 7/20/05
DE LEON, TX
BOUDREAUX, DOROTHY | 7/20/05
HUMBLE, TX
BOWERS, AMY | 7/20/05
DALHART, TX
BREDEMEIER, HENRY | 7/20/05
LOMBARD, IL
BRUGGEMAN, JAMES | 7/20/05
CLEAR LAKE, IA
BRYANT, ANGELA | 7/20/05
LOVES PARK, IL
BUCK, NADENA | 7/20/05
MURRAY, UT
BUGOS, ROSEMARY | 7/20/05
BUENA PARK, CA
BUSH, LISA | 7/20/05
ETHELSVILLE, AL
CARNEY, NANETTE | 7/20/05
VIDALIA, LA
CASEY, NOLA | 7/20/05
CADDO MILLS, TX
COBBS, FREDERICK | 7/20/05
WAKE FOREST, NC
COLEMAN, MARCIA | 7/20/05
LAKEWOOD, OH
COLSHAN, STACY | 7/20/05
MAPLETON, IA
CORDELL, CRYSTAL | 7/20/05
ELIZABETHTOWN, TN
CORNISH, CHRISTY | 7/20/05
BENTON, AR
CROSBY, CHARLES | 7/20/05
ORLANDO, FL
DALLOLIO, DENISE | 7/20/05
RUPERT, ID
DAVENPORT, KIMBERLY | 7/20/05
WARWICK, RI
DAWSON, NANCY | 7/20/05
UNIONTOWN, OH
DICKERSON, DANA | 7/20/05
NEW HEBRON, MS
DOHERTY, ERIN | 7/20/05
CHARLOTTE, NC
DOVE, RICHARD | 7/20/05
NEWTON, KS
ECHOLS, EVERETT | 7/20/05
SOUTHERN PINES, NC
EDWARDS, LESA | 7/20/05
MEAD, OK
FIDALGO, CATHERINE | 7/20/05
NEW BEDFORD, MA
FREEMAN, JANET | 7/20/05
KNOXVILLE, TN
FRISCH, JULIE | 7/20/05
LAKE FOREST, CA
GALE, LORETA | 7/20/05
NATIONAL CITY, CA
GARNETT, HAZEL | 7/20/05
BEACON, NY
GRIEGO, MAHRI | 7/20/05
BISHOP, CA
HABERMAN, JENNIFER | 7/20/05
DURHAM, NC
HALE, KIMBERLY | 7/20/05
MOREHEAD, KY
HALL, SHARON | 7/20/05
TWAIN HARTE, CA
HALL, YVONNE | 7/20/05
MERCED, CA
HAMILTON, DIANE | 7/20/05
MOUNT JULIET, TN
HARRISON, SANDY | 7/20/05
LAGRANGE, GA
HARTER, SUSAN | 7/20/05
TUCSON, AZ
HARTWELL, VICTORIA | 7/20/05
LEWSTON, ID
HERNANDEZ, VARINIA | 4/20/05
PITTSBURG, CA
HILL, ROGER | 7/20/05
KNOXVILLE, TN
HOCHSPRUNG, CAROLYN | 7/20/05
WEST FARGO, ND
HOLBROOK, JANE | 7/20/05
BOISE, ID
HOLMAN, THELON | 7/20/05
CHAPEL HILL, NC
HURLEY, CHARLES | 7/20/05
CHICOPEE, MA
INNES, GEORGE | 7/20/05
FAYETTEVILLE, NY
IRVING, JENNIFER | 7/20/05
COUNCIL BLUFFS, IA
JAMES, GLORIA | 7/20/05
JERSEY CITY, NJ
JENSEN, MEGAN | 7/20/05
ORLAND, CA
JOHNSON, SHERRY | 7/20/05
BOISE, ID
JONES, ILONA | 7/20/05
TUCSON, AZ
JONES, ROBBIE | 7/20/05
BYHALIA, MS
KELLY, DENNIS | 7/20/05
MARKHAM, IL
KELLY, PATRICK | 7/20/05
BASTROP, TX
KINDELSPIRE, KATHLEEN | 7/20/05
MESA, AZ
KLEIN, CARL | 7/20/05
KNOXVILLE, TN
KNIGHT, ROBIN | 7/20/05
BLOUNTSVILLE, AL
LAVALLO, JULIA | 7/20/05
NEW PARIS, OH
LEE, DIANA | 7/20/05
TWIN FALLS, ID
LEWIS, WANDA | 7/20/05
DENVER, CO
LINDSEY, DEBBIE | 7/20/05
TECUMSEH, OK
LOVIER, PATRICIA | 7/20/05
GRANDVIEW, MO
LUCK, DIANNE | 7/20/05
GREAT POND, ME
MADERE, ANNA | 7/20/05
LULING, LA
MARTIN, ROSALIND | 7/20/05
CHICAGO, IL
MARTIN, SHELLY | 7/20/05
HENDERSON, KY
MARTINEAU, WADE | 7/20/05
SALT LAKE CITY, UT
MASNEY, RICHARD | 7/20/05
ROCKY MOUNT, NC
MATUTE, PATRICIA | 7/20/05
RESEDA, CA
MCCLURE, VICKIE | 7/20/05
OVERTON, TX
MCKINNEY, MARTHA | 7/20/05
GARLAND, TX
MCPEAK, CATHERINE | 7/20/05
AVERY, TX
MENDOZA, CHARLES | 7/20/05
VALLEJO, CA
MENDOZA, DAVID | 7/20/05
TUCSON, AZ
MERCHANT-KEOSATHIT, LEE ANN | 7/20/05
ST PETERSBURG, FL
MOODY, JOLENE | 7/20/05
SOUTH JORDAN, UT
MORRIS, KENYA | 7/20/05
EL CAJON, CA
O'DONOHOE, BARBARA | 7/20/05
CEDAR RAPIDS, IA
OAKMAN, RANDALL | 7/20/05
MOUNT ZION, IL
OLF, VICKIE | 7/20/05
INDEPENDENCE, MO
OUTLAW, TERESA | 7/20/05
MT OLIVE, NC
PABLO, JENNIFER | 7/20/05
PHOENIX, AZ
PARRA, ANNA | 7/20/05
TUCSON, AZ
PARSLEY, JAMES | 7/20/05
WHEELERSBURG, OH
PARSONS, BETH | 7/20/05
FORT WAYNE, IN
PATTEN, JANICE | 7/20/05
CENTENNIAL, CO
PAWLOWSKI, JOAN | 7/20/05
BURNHAM, IL
PAYNE, MELODY | 7/20/05
SECTION, AL
PIATT, SANDRA | 7/20/05
MURRAY, UT
POLAND, WAYNE | 7/20/05
N CONWAY, NH
PONWITH, PAULA | 7/20/05
ARVADA, CO
QUICHOCHO, RICHARD | 7/20/05
OLYMPIA, WA
RANDALL, BETHANY | 7/20/05
SKOWHEGAN, ME
REID, YOLANDA | 7/20/05
TUCSON, AZ
REPKO, LINDA | 7/20/05
JESSUP, PA
REYNOLDS, PATRICIA | 7/20/05
CHARLOTTE, NC
RIZZO, MICHELLE | 7/20/05
SCOTTSDALE, AZ
ROGERS, ANNETTE | 7/20/05
LOMPOC, CA
ROMERO, EMMA | 7/20/05
MARENO VALLEY, CA
RUDY, ANDREW | 7/20/05
MERRITT ISLAND, FL
RUMBOLZ, SARA | 7/20/05
GILBERT, AZ
RYGIEL, KATARZYNA | 7/20/05
SAN DIEGO, CA
SCHALL, TRACY | 7/20/05
BUCKEYE, AZ
SCHROYER, GREGORY | 7/20/05
FAIRVIEW HEIGHTS, IL
SEEFELDT, REBECCA | 7/20/05
PHOENIX, AZ
SHELBURNE, KRISTI | 7/20/05
LEBANON, IN
SHOEMAKER, MICHELLE | 7/20/05
HAMILTON, OH
SIMMONS, LISA | 7/20/05
ROCKFORD, IL
SMITH, DEBORAH | 7/20/05
SAN ANTONIO, TX
SMITH, JAMIE | 7/20/05
BETHANY, OK
SMITH, MICHAEL | 7/20/05
GREENVILLE, NC
SMITH, NANCY | 7/20/05
SUPPLY, NC
SMITH, RICHARD | 7/20/05
RIVERHEAD, NY
SOOKHU, LLOYD | 7/20/05
DIX HILLS, NY
SPARLING, KAREN | 7/20/05
AMARILLO, TX
SPOONER, COLLEEN | 7/20/05
COLORADO SPRINGS, CO
STANLEY, JENNIFER | 7/20/05
CLEVELAND, TX
TARLTON, NORA | 7/20/05
DECATUR, AL
TAYLOR, JOHN | 7/20/05
VASS, NC
THOMAS, SUSAN | 7/20/05
OCALA, FL
TONUBBEE, KIMBERLY | 7/20/05
CARROLLTON, TX
TOWLES, TRACY | 7/20/05
NICHOLASVILLE, KY
TRUE, ROBERT | 7/20/05
CLARKSDALE, MS
TURAN, ROXANNE | 7/20/05
SAUCIER, MS
TURNER, BETTY | 7/20/05
TUCSON, AZ
TURNER-GAINES, WINNIFRED | 7/20/05
MONROE, LA
VALENTINO, NANCY | 7/20/05
HEMET, CA
VENECHANOS, JACQUELINE | 7/20/05
CHARLESTOWN, RI
VIVEROS, CHRISTOPHER | 7/20/05
TEHACHAPI, CA
WAITLEY, TIMOTHY | 7/20/05
GLENDALE, AZ
WATSON, KELLY | 7/20/05
OKLAHOMA CITY, OK
WEBB, BONNIE | 7/20/05
SWEET WATER, AL
WEISE, ELAINE | 7/20/05
GLENDALE, AZ
WHITAKER, REGINA | 7/20/05
PEORIA, IL
WHITE, KELLY | 7/20/05
CULLMAN, AL
WHITE, VICKIE | 7/20/05
RANCHO CUCAMONGA, CA
WHITLEY, ANGELIA | 7/20/05
ROARING RIVER, NC
WILBANKS, NANCY | 7/20/05
ASHLAND, MS
WILLIAMS, ELIZABETH | 7/20/05
GILBERT, AZ
WILLSON, JENNIFER | 7/20/05
LYNDON CENTER, VT
WISE, THOMAS | 7/20/05
ASHWAY, RI
WYLEY, MARQUITA | 7/20/05
TOLEDO, OH
YANKURA, JOSEPH | 7/20/05
FREEPORT, NY
ZUCCO, MICHAEL | 7/20/05
PITTSBURGH, PA
ZUZELSKI, KAREN | 7/20/05
LOVELAND, CO
OWNED/CONTROLLED BY CONVICTED ENTITIES
ALROD MEDICAL EQUIPMENT CORP | 7/20/05
MIAMI, FL
BRIAN H JENKINS, D S, P A | 7/20/05
KANSAS CITY, MO
CARES R US, LTD | 3/8/05
BAYSIDE, WI
CHARLES J CROSBY, D O, P A | 7/20/05
WINTER PARK, FL
CROSBY ADVANCED MEDICAL SYSTEMS, INC | 7/20/05
ORLANDO, FL
K E S MEDICAL SUPPLIES CORP | 7/20/05
HIALEAH, FL
STANBRIDGE CHIROPRACTIC | 7/20/05
WHITTIER, CA
STAR B REST PERSONAL CARE HOME | 7/20/05
COLUMBUS, MS
DEFAULT ON HEAL LOAN
CASTALINE, PERREN | 7/20/05
CANYON COUNTRY, CA
JOHNSON, TIMOTHY | 7/20/05
CHISAGO CITY, MN
LENT, ROSELLA | 7/20/05
NAHANT, MA
OWNERS OF EXCLUDED ENTITIES
JENKINS, ELIZABETH | 7/20/05
CAMPBELL, NY
SHARMA, RENU | 4/5/04
KALAMAZOO, MI

Dated: July 12, 2005.
Maureen Byer,
Acting Director, Exclusions Staff, Office of Inspector General.

[FR Doc. 05-14221 Filed 7-19-05; 8:45 am]

BILLING CODE 4152-01-P